ENVIRONMENTAL PROTECTION AGENCY

40 CFR Parts 52 and 81

[EPA-R01-OAR-2013-0020; FRL- 9901-11-Region1]

Approval and Promulgation of Air Quality Implementation Plans; Connecticut; Redesignation of Connecticut Portion of the New York-New Jersey-Connecticut Nonattainment Area to Attainment of the 1997 Annual and 2006 24-Hour Standards for Fine Particulate Matter

AGENCY: Environmental Protection Agency (EPA).

ACTION: Final rule.

SUMMARY: EPA is approving the State of Connecticut's June 22, 2012 request to redesignate the Connecticut portion of the New York-N. New Jersey-Long Island, NY-NJ-CT fine particle (PM2.5) area (i.e., New Haven and Fairfield Counties; herein called the “Southwestern CT Area” or “the Area”) from nonattainment to attainment for the 1997 annual National Ambient Air Quality Standards (NAAQS or standards), as well as for the 2006 24-hour PM2.5 NAAQS. As part of these approvals, EPA is approving: A State Implementation Plan (SIP) revision containing a 10-year maintenance plan for the Area; a 2007 base-year emissions inventory for the Area; and new motor vehicle emissions budgets (MVEBs) for the years 2017 and 2025 that are contained in the 10-year PM2.5 maintenance plan for the Area. This action is being taken in accordance with the Clean Air Act.

DATES: This rule is effective on October 24, 2013.

ADDRESSES: EPA has established a docket for this action under Docket Identification No. EPA-R01-OAR-2013-0020. All documents in the docket are listed on the www.regulations.gov Web site. Although listed in the index, some information is not publicly available, i.e., CBI or other information whose disclosure is restricted by statute. Certain other material, such as copyrighted material, is not placed on the Internet and will be publicly available only in hard copy form. Publicly available docket materials are available either electronically through www.regulations.gov or in hard copy at the Office of Ecosystem Protection, U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 to 4:30, excluding legal holidays.

Copies of the documents relevant to this action are also available for public inspection during normal business hours, by appointment at the Bureau of Air Management, Department of Energy and Environmental Protection, State Office Building, 79 Elm Street, Hartford, CT 06106-1630.

FOR FURTHER INFORMATION CONTACT: Alison C. Simcox, Air Quality Planning Unit, U.S. Environmental Protection Agency, EPA New England Regional Office, Office of Ecosystem Protection, Air Quality Planning Unit, 5 Post Office Square—Suite 100, (Mail code OEP05-2), Boston, MA 02109-3912, telephone number (617) 918-1684, fax number (617) 918-0684, email simcox.alison@epa.gov.

SUPPLEMENTARY INFORMATION: Throughout this document whenever “we,” “us,” or “our” is used, we mean EPA.

Organization of this document. The following outline is provided to aid in locating information in this preamble.

I. Background and Purpose

II. Final Action

III. Statutory and Executive Order Reviews

I. Background and Purpose

On June 22, 2012, the Connecticut Department of Energy and Environmental Protection (CT DEEP) submitted a request for EPA to redesignate the Connecticut portion of the New York-N. New Jersey-Long Island, NY-NJ-CT Area (i.e., the Southwestern CT Area) from nonattainment to attainment for the 1997 annual and 2006 24-hour PM2.5 NAAQS, and to approve a State Implementation Plan (SIP) revision containing an emissions inventory and a maintenance plan for the area. As part of its redesignation request, CT DEEP asked EPA to withdraw the SIP-approved 2009 motor vehicle emissions budgets (MVEBs) prepared using the MOBILE6.2 emissions model and to approve the 2017 and 2025 MVEBs prepared using the MOVES2010 emissions model.

On July 19, 2013 (78 FR 43096), EPA published a Notice of Proposed Rulemaking (NPR) for the State of Connecticut proposing to approve the state's redesignation request and to approve the associated PM2.5 maintenance plan, as well as the 2007 base-year emissions inventory and new MVEBs for the years 2017 and 2025. EPA also proposed to withdraw the SIP-approved 2009 MVEBs prepared using MOBILE6.2.

Specific details of Connecticut's redesignation request, 2007 emissions inventory, Clean Air Act (CAA) Section 175A maintenance plan, and 2017 and 2025 MVEBs, and the rationale for EPA's proposed approvals are explained in the NPR and will not be restated here. No public comments were received on the NPR.

II. Final Action

EPA is approving Connecticut's June 22, 2012 redesignation request and maintenance plan for the Southwestern CT Area because the requirements for approval have been satisfied. EPA has evaluated Connecticut's redesignation request, and determined that it meets the redesignation criteria set forth in section 107(d)(3)(E) of the Clean Air Act. EPA believes that the redesignation request and monitoring data demonstrate that the area has attained the 1997 annual and 2006 24-hour PM2.5 standards. The final approval of this redesignation request will change the designation of the Southwestern CT Area from nonattainment to attainment for the 1997 annual and 2006 24-hour PM2.5 standards.

EPA is also approving the associated PM2.5 maintenance plan for this area submitted on June 22, 2012 as a revision to the Connecticut SIP. EPA has determined that the PM2.5 maintenance plan meets the requirements of section 175A of the CAA. In addition, EPA is also withdrawing the previously SIP-approved 2009 MVEBs prepared using MOBILE6.2 and is approving the 2017 and 2025 MVEBs prepared using the MOVES model. Finally, EPA is approving the 2007 comprehensive emission inventory for the Southwestern CT Area under CAA section 182(a)(1).

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 25, 2013. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Incorporation by reference, Intergovernmental relations, Nitrogen dioxide, Particulate matter, Reporting and recordkeeping requirements, Sulfur oxides, Volatile organic compounds.

40 CFR Part 81

Environmental protection, Air pollution control, National parks, Wilderness areas.

Dated: September 11, 2013.
Stephen S. Perkins,
Acting Regional Administrator, EPA New England.

Parts 52 and 81 of chapter I, title 40 of the Code of Federal Regulations are amended as follows:

PART 52—APPROVAL AND PROMULGATION OF IMPLEMENTATION PLANS

1. The authority citation for part 52 continues to read as follows:

Authority: 42 U.S.C. 7401 et seq.

Subpart H—Connecticut

2. Section 52.379 is amended by adding paragraph (h) to read as follows:

§ 52.379 Control strategy: PM2.5.

* * * * *

(h) Approval—EPA is approving a request to redesignate the Connecticut portion of the New York-N. New Jersey-Long Island, NY-NJ-CT fine particle (PM2.5) area (i.e., New Haven and Fairfield Counties or the Southwestern CT Area) from nonattainment to attainment for the 1997 annual and 2006 24-hour PM2.5 standards. Connecticut submitted this request on June 22, 2012. As part of the redesignation request, the State submitted a maintenance plan as required by section 175A of the Clean Air Act. Elements of the section 175A maintenance plan include a contingency plan and an obligation to submit a subsequent maintenance plan revision as required by the Clean Air Act. The PM2.5 maintenance plan also establishes 2017 and 2025 Motor Vehicle Emission Budgets (MVEBs) for the Area. Connecticut is establishing 2017 MVEBs of 575.8 tons per year (tpy) for direct PM2.5 and 12,791.8 tpy for NOX, and 2025 MVEBs of 516 tpy for direct PM2.5 and 9,728.1 tpy for NOX, for the Southwestern CT Area for maintenance of the 1997 annual and 2006 24-hour PM2.5 standards. The 2017 and 2025 MVEBs were prepared with the MOVES model. Previously SIP-approved 2009 MVEBs prepared with MOBILE6.2 are being withdrawn. Finally, EPA is also approving a comprehensive 2007 emission inventory for this Area.

PART 81—DESIGNATION OF AREAS FOR AIR QUALITY PLANNING PURPOSES

3. The authority citation for part 81 continues to read as follows:

Authority: 42 U.S.C. 7401 et seq.

Subpart C—Section 107 Attainment Status Designations

4. Section 81.307 is amended by revising the entries for the New York-N. New Jersey-Long Island, NY-NJ-CT area in the Connecticut-PM2.5 (Annual NAAQS) table and in the Connecticut—PM2.5 [24-hour NAAQS] table to read as follows:

§ 81.307 Connecticut.

* * * * *

Connecticut—PM2.5
[Annual NAAQS]
Designated area | Designation ᵃ: Date ¹ | Designation ᵃ: Type
New York-N. New Jersey-Long Island, NY-NJ-CT:
Fairfield County | 10-24-13 | Attainment.
New Haven County | 10-24-13 | Attainment.
* * * * * * *
ᵃ Includes Indian Country located in each county or area, except as otherwise specified.
¹ This date is 90 days after January 5, 2005, unless otherwise noted.

Connecticut—PM2.5
[24-Hour NAAQS]
Designated area | Designation for the 1997 NAAQS ᵃ: Date ¹ | Designation for the 1997 NAAQS ᵃ: Type | Designation for the 2006 NAAQS ᵃ: Date ² | Designation for the 2006 NAAQS ᵃ: Type
New York-N. New Jersey-Long Island, NY-NJ-CT:
Fairfield County |  | Unclassifiable/Attainment | 10-24-13 | Attainment.
New Haven County |  | Unclassifiable/Attainment | 10-24-13 | Attainment.
* * * * * * *
ᵃ Includes Indian Country located in each county or area, except as otherwise specified.
¹ This date is 90 days after January 5, 2005, unless otherwise noted.
² This date is 30 days after November 13, 2009, unless otherwise noted.

* * * * *

[FR Doc. 2013-23098 Filed 9-23-13; 8:45 am]

BILLING CODE 6560-50-P